DEPARTMENT OF THE INTERIOR

Geological Survey

[WBS: GX.23.DJ73.U9K10.00, OMB Control Number 1028-0131]

Agency Information Collection Activities: Water Resources Management—Institutional Resilience, Hazards Planning, and Data Delivery Needs Information Collection

AGENCY: U.S. Geological Survey, Interior.

ACTION: Notice of information collection; request for comment.

SUMMARY: In accordance with the Paperwork Reduction Act of 1995 (PRA) the U.S. Geological Survey (USGS) is proposing to renew an information collection.

DATES: Interested persons are invited to submit comments on or before July 18, 2023.

ADDRESSES: Send your comments on this information collection request (ICR) by mail to U.S. Geological Survey, Information Collections Officer, 12201 Sunrise Valley Drive, MS 159, Reston, VA 20192, or by email to gs-info_collections@usgs.gov. Please reference OMB Control Number 1028-0131 in the subject line of your comments.

FOR FURTHER INFORMATION CONTACT: To request additional information about this ICR, contact Katrina Alger by email at kalger@usgs.gov or by telephone at 303-236-5031. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract:

The United States is facing growing challenges related to the availability of water due to shifting demographics, aging water-delivery infrastructure, and the impacts of climate change, which include flood and drought. Working with incomplete knowledge, managers must consider the needs of various demographic groups and economic sectors when making management decisions as well as when responding to emergencies. We will collect information regarding the decision-making process and data and data-format needs to support daily, long-term, and emergency-response decision-making. Information will also be sought on the resilience of water-resource management institutions. A lack of resilience within water institutions can lead to poor decision-making and outcomes that produce conflict between water-use sectors, states, or communities and ultimately may lead to crisis. This information will support the delivery of appropriate data, in appropriate formats, at the right time for decision-making and emergency response as well as how water-resource institutions can be more resilient in the face of the many water-resources challenges the nation currently faces.

This collection was originally approved by OMB on 08/22/2022 as a one-year pilot study with an expiration of 8/31/23. We are seeking full approval for this collection request through a request for revision without substantive change.

Title of Collection: Water Resources Management—Institutional Resiliency, Hazards Planning, and Data Delivery.

OMB Control Number: 1028-0131.

Form Number: None.

Type of Review: Extension of a currently approved collection.

Respondents/Affected Public: State, local, Tribal, Federal water resource managers and water resource stakeholders.

Total Estimated Number of Annual Respondents: 265.

Total Estimated Number of Annual Responses: 265.

Estimated Completion Time per Response: Varies from 10 to 60 minutes, depending on activity.

Total Estimated Number of Annual Burden Hours: 154.

Respondent's Obligation: Voluntary.

Frequency of Collection: Twice per year.

Total Estimated Annual Nonhour Burden Cost: None.

An agency may not conduct or sponsor, nor is a person required to respond to, a collection of information unless it displays a currently valid OMB control number.

The authority for this action is the PRA (44 U.S.C. 3501 et seq.).

Joseph Nielsen,
Director, Integrated Information Dissemination Division, Water Mission Area, USGS.

[FR Doc. 2023-10744 Filed 5-18-23; 8:45 am]

BILLING CODE 4338-11-P